DEPARTMENT OF JUSTICE

[AAG/A Order No. 286-2002]

Privacy Act of 1974 as Amended by the Computer Matching and Privacy Protection Act of 1988

This notice is published as an addendum to AAG/A Order No. 277-2002, published in the Federal Register on July 25, 2002 (67 FR 48671) in accordance with the requirements of the Privacy Act, as amended by the Computer Matching and Privacy Protection Act of 1988 (CMPPA) (5 U.S.C. 552a(e)(12)). That notice announced that the Immigration and Naturalization Service (INS) is participating in computer matching programs with the District of Columbia and seven State agencies, to permit eligibility determinations specified in the notice. Paragraph 2 of the notice stated:

Specifically, the matching activities will permit the following eligibility determinations:

* * * * *

(2) The California Department of Social Services will be able to determine eligibility status of aliens applying for or receiving benefits under the TANF (“Temporary Assistance for Needy Families”) program, and upon the submission of favorable cost-benefit data to the Department of Justice (DOJ) Data Integrity Board, will also be able to determine eligibility status of non-TANF Food Stamp applicants and recipients.

* * * * *

The purpose of this addendum is to provide notice that the California Department of Social Services has submitted favorable cost-benefit data to the DOJ Data Integrity Board. Based on that data, the Board has approved verifications of immigration status for non-TANF Food Stamp applicants and recipients under the subject computer matching agreement.

* * * * *

Inquiries may be addressed to Kathleen M. Riddle, Procurement Analyst, Management and Planning Staff, Justice Management Division, Department of Justice, Washington, DC 20530.

Dated: September 12, 2002.
Robert F. Diegelman,
Acting Assistant Attorney General for Administration.

[FR Doc. 02-24208 Filed 9-23-02; 8:45 am]

BILLING CODE 4410-10-M